CONSUMER PRODUCT SAFETY COMMISSION

[Docket No. CPSC-2010-0053]

Agency Information Collection Activities; Proposed Extension of Approval of Information Collection; Comment Request—Safety Standard for Multi-Purpose Lighters

AGENCY: Consumer Product Safety Commission.

ACTION: Notice of information collection; request for comment.

SUMMARY: As required by the Paperwork Reduction Act of 1995, the Consumer Product Safety Commission (CPSC or Commission) requests comments on a proposed revision of approval of a collection of information regarding the Safety Standard for Multi-Purpose Lighters. The Office of Management and Budget (OMB) previously approved the collection of information under control number 3041-0130. OMB's most recent extension of approval will expire on January 31, 2024. The Commission will consider all comments received in response to this notice before requesting an extension of approval of this collection of information from OMB.

DATES: Submit comments on the collection of information by January 16, 2024.

ADDRESSES: You may submit written comments, identified by Docket No. CPSC-2010-0053, by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov. Docket: For access to the docket to read background documents or comments received, go to: https://www.regulations.gov, insert docket number CPSC-2010-0053 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Safety Standard for Multi-Purpose Lighters.

OMB Number: 3041-0130.

Type of Review: Renewal of collection.

Frequency of Response: On occasion.

Affected Public: Manufacturers and importers of multi-purpose lighters.

Estimated Number of Respondents: Based on five years of data, there are an estimated 47 firms that import, distribute, or sell multi-purpose lighters in the United States. Based on past experience, CPSC expects that firms will conduct recordkeeping and reporting activities for an average of two multi-purpose lighter models each year.

Estimated Time per Response: The costs associated with the rule include reporting, recordkeeping, and other certification-related activities. CPSC estimates that the burden per model is 10 hours to generate test data, record it, and enter the data into a computerized dataset; five hours for annual review and removal of records; and five hours for responding to CPSC records requests—for a total of 20 hours per model.

Total Estimated Annual Burden: Based on CPSC's estimates that 47 firms will each conduct recordkeeping and reporting activities for an average of two models per year, and that a total of 20 hours will be required per model, CPSC estimates that the total annual burden of this collection is 1,880 hours. The annualized cost to respondents for the information collection is $63,318 (1,880 hours × $33.68/hr), as estimated from total compensation data available from the U.S. Bureau of Labor Statistics.¹

¹ Total hourly compensation for office and administrative support occupations in goods-producing industries is estimated by the U.S. Bureau of Labor Statistics to be $33.68: Employer Costs for Employee Compensation, March 2023, Table 4: (https://www.bls.gov/news.release/archives/ecec_06162023.pdf).

General Description of Collection: The Commission issued a safety standard for multi-purpose lighters in 1999 (16 CFR part 1212). The standard and section 14(a)(1) of the Consumer Product Safety Act (CPSA) require that manufacturers, including importers, of multi-purpose lighters issue certificates of compliance based on a reasonable testing program. The standard also requires manufacturers and importers to establish and maintain records to demonstrate successful completion of all required tests to support the certificates of compliance that they issue. Respondents must comply with these testing, certification, and recordkeeping requirements for multi-purpose lighters.

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2023-25190 Filed 11-14-23; 8:45 am]

BILLING CODE 6355-01-P